DEPARTMENT OF HEALTH AND HUMAN SERVICES

Office of the Secretary

[Document Identifier: HHS-OS-0990-0388-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number 0990-0388, which expires on July 31, 2015. Prior to submitting that ICR to OMB, OS seeks comments from the public regarding the burden estimate, below, or any other aspect of the ICR.

DATES: Comments on the ICR must be received on or before May 4, 2015.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-0388-60D for reference.

Information Collection Request Title: Let's Move! Cities, Towns, and Counties—.

Abstract: The Office of the Assistant Secretary for Health (OASH) is requesting an approval on an extension by Office of Management and Budget (OMB) on a currently approved information collection; the OMB number is 0990-0388. The project on, Let's Move! Cities, Towns and Counties (LMCTC), seeks to continue to conduct a survey of local government organizations for the Initiative. Let's Move is a comprehensive initiative, launched by the First Lady, Michelle Obama, dedicated to solving the challenge of childhood obesity within a generation. The online survey is the mechanism by which Let's Move! Cities, Towns and Counties report progress on the initiative's goals and are recognized for that progress. LMCTC calls on local elected officials to adopt long-term, sustainable, and holistic approaches to addressing childhood obesity. Local elected officials who sign up for the initiative are willing to commit to five goals that are intended to create healthier, more livable communities.

Therefore, the online survey is essential to the successful operation of the initiative. Since July 2012 until January 31 2015, 463 sites had signed up for Let's Move! Cities, Towns and Counties. Sites who have completed the online survey report that they have implemented a total of 2170 promising practices intended to promote healthy eating and active living for community residents.

Likely Respondents: This activity is requesting comment on the burden for a survey for local government officials who have chosen to participate in Let's Move! Cities, Towns and Counties. The survey requests information about the activities the locality has undertaken against the initiative's goals. The responses to these questions are used to show progress, and to recognize municipal and county sites' success in participating in Let's Move! Cities, Towns and Counties.

Total Estimated Annualized Burden—Hours
Form name | Number of respondents | Number of responses per respondent | Average burden per response (in hours) | Total burden hours
Government Official (city, town, county) | 500 | 1 | 30/60 | 250
Total |  |  |

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2015-04458 Filed 3-3-15; 8:45 am]

BILLING CODE 4150-28-P